DEPARTMENT OF COMMERCE

National Oceanic and Atmospheric Administration

[I.D. 101106E]

Endangered and Threatened Species; Recovery Plan for the Hawaiian Monk Seal

AGENCY: National Marine Fisheries Service, National Oceanic and Atmospheric Administration, Commerce.

ACTION: Notice of Availability; request for comments.

SUMMARY: The National Marine Fisheries Service (NMFS) announces the availability for public review of the draft revised Recovery Plan (Plan) for the Hawaiian monk seal (Monachus schauinslandi). NMFS is soliciting review and comment on the Plan from the public and all interested parties, and will consider and address all substantive comments received during the comment period.

DATES: Comments on the draft Plan must be received by close of business on January 29, 2007.

ADDRESSES: You may submit comments by either of the following methods:

• Mail: Send comments to Chris Yates, Assistant Regional Administrator, Protected Resources Division, Pacific Islands Regional Office, NMFS, Attn: Michelle Yuen, 1601 Kapiolani Blvd., Suite 1110, Honolulu, HI 96814.

• E-mail: hmsplan@noaa.gov. Include in the subject line the following document identifier: Hawaiian Monk Seal Recovery Plan. E-mail comments, with or without attachments, are limited to 5 megabytes.

Interested persons may obtain the Plan for review from the above address or on-line from the NMFS Pacific Islands Region Office website: http://swr.nmfs.noaa.gov/pir/.

FOR FURTHER INFORMATION CONTACT: Michelle Yuen (808-944-2243), e-mail: michelle.yuen@noaa.gov.

SUPPLEMENTARY INFORMATION:

Background

Recovery plans describe actions considered necessary for the conservation and recovery of species listed under the Endangered Species Act of 1973 (ESA), as amended (16 U.S.C. 1531 et seq.). The ESA requires that recovery plans incorporate (1) objective, measurable criteria that, when met, would result in a determination that the species is no longer threatened or endangered; (2) site-specific management actions necessary to achieve the plan's goals; and (3) estimates of the time required and costs to implement recovery actions. The ESA requires the development of recovery plans for listed species unless such a plan would not promote the recovery of a particular species. NMFS's goal is to restore the endangered Hawaiian monk seal (Monachus schauinslandi) population to the point where they are again secure, self-sustaining members of their ecosystem and no longer need the protections of the ESA. NMFS will consider all substantive comments and information presented during the public comment period in the course of finalizing this Recovery Plan.

The Hawaiian monk seal has the distinction of being the only endangered marine mammal species whose entire range, historical and current, lies within the United States of America. The majority of the population of Hawaiian monk seals now occupies the northwestern Hawaiian Islands (NWHI) with six main breeding sub-populations. The species is also found in lower numbers in the main Hawaiian Islands (MHI), where the population size and range both appear to be expanding. The Hawaiian monk seal was listed as a threatened species under the ESA on November 23, 1976 (41 FR 51612). On April 30, 1986 (51 FR 16047), critical habitat was designated at all beach areas, lagoon waters, and ocean waters out to a depth of 10 fathoms around Kure Atoll, Midway, Pearl and Hermes Reef, Lisianski Island, Laysan Island, Gardner Pinnacles, French Frigate Shoals, Necker Island and Nihoa Island; critical habitat was extended to include Maro Reef and waters around all habitat out to the 20-fathom isobath on May 26, 1988. The best estimate of the total population size in 2005 is 1,252 seals.

This current revised plan was written by the Hawaiian Monk Seal Recovery Team at the request of the Assistant Administrator for Fisheries to promote the conservation of the Hawaiian monk seal. The recovery team includes experts on marine mammals from the private sector, academia, and government, as well as experts on endangered species conservation. The goals and objectives of the Plan can be achieved only if a long-term commitment is made to support the actions recommended in the Plan.

The Recovery Plan contains: (1) a comprehensive review of the Hawaiian monk seal population distribution, life history, and habitat use, (2) a threats assessment, (3) conservation efforts, (4) biological and recovery criteria for downlisting and delisting, (4) actions necessary for the recovery of the species, and (5) an implementation schedule with estimates of time and cost to recovery. The threats assessment finds four levels of threats: (1) Crucial (ongoing and apparent threat at most sites in the NWHI), (2) Significant (ongoing impacts representing the potential for range-wide threats), (3) Serious (potential cause of localized threats), and (4) Moderate (localized impacts possible but not considered a serious or immediate threat). The Crucial threats to Hawaiian monk seals are: food limitation, entanglement, and shark predation. The Significant threats to Hawaiian monk seals are: infectious disease and habitat loss. The Serious threats are: fishery interaction, male aggression, human interaction, and biotoxin. Finally, the Moderate threats to Hawaiian monk seals are: vessel groundings and contaminants.

Criteria for the reclassification of the Hawaiian monk seal are included in the Plan. In summary, Hawaiian monk seals may be reclassified from endangered to threatened when all of the following have been met: (1) aggregate numbers exceed 2,900 total individuals in the NWHI; (2) at least 5 of the 6 main sub-population in the NWHI are above 100 individuals, and the MHI population is above 500; (3) the survivorship of females in each subpopulation in the NWHI and in the MHI is high enough that, in conjunction with the birth rates in each subpopulation, the calculated population growth rate for each subpopulation is not negative. The population will be considered for a delisting if it continues to qualify for “threatened” classification for 20 consecutive years without new serious risk factors being identified.

Time and cost for recovery actions are contained in the Plan. The recovery program will cost $52,656,000 for the first 5 fiscal years and $436,816,000 to full recovery assuming the best case scenario that the population could grow to the stipulated total population size in the NWHI within 12 years, and that the stipulated numbers in the MHI could be reached within 34 years.

In accordance with the 2003 Peer Review Policy as stated in Appendix R of the Interim Endangered and Threatened Species Recovery Planning Guidance, NMFS solicited peer review on the draft Plan concurrent with this public comment period. Reviews were requested from three scientists and managers with expertise in recovery planning, statistical analyses, fisheries, and marine mammals. NMFS anticipates that many of the recommendations that will be made by the reviewers will be addressed and provided in detail in the final Plan.

Public Comments Solicited

NMFS solicits written comments on the draft Revised Recovery Plan. All substantive comments received by the date specified above will be considered prior to final approval of the Plan. NMFS is especially interested in comments on the following areas: (1) the threats assessment; (2) the biological and threats criteria for removing Hawaiian monk seals from the Federal list of Endangered and Threatened Wildlife and Plants; (3) the recovery strategy and measures; and (4) the estimates of time and cost to implement recovery actions.

Authority

The authority for this action is section 4(f) of the Endangered Species Act (16 U.S.C. 1531 et seq.).

Dated: November 21, 2006.
Angela Somma,
Chief, Endangered Species Division, Office of Protected Resources, National Marine Fisheries Service.

[FR Doc. E6-20164 Filed 11-27-06; 8:45 am]

BILLING CODE 3510-22-S